DEPARTMENT OF HEALTH AND HUMAN SERVICES

Administration for Children and Families

Submission for OMB Review; Comment Request

Title: Annual Statistical Report on Children in Foster Homes and Children in Families Receiving Payments in Excess of the Poverty Income Level from a Program Funded under Part A of title IV of the Social Security Act

OMB No.: 0970-0004.

Description: This information is collected to meet the statutory requirements of section 1124 of the Elementary and Secondary Education Act (as amended by Pub. L. 103-382). It is collected by DHHS from State public welfare agencies and turned over to the Department of Education which uses it to arrive at the formula for allocating Title I grant funds to State and local elementary and secondary schools for the purpose of providing assistance to disadvantaged children.

Respondents: State, Local, or Tribal Governments.

Annual Burden Estimates
Instrument | Number of respondents | Number of responses per respondent | Average burden hours per response | Total burden hours
ACF-4125 | 52 | 1 | 264 | 13,746

Estimated Total Annual Burden Hours: 13,746.

Additional Information: Copies of the proposed collection may be obtained by writing to The Administration for Children and Families, Office of Information Services, 370 L'Enfant Promenade, SW, Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW, Washington, DC 20503, Attn: Desk Officer for ACF.

Dated: January 28, 2002.
Bob Sargis,
Reports Clearance Officer.

[FR Doc. 02-2555 Filed 2-1-02; 8:45 am]

BILLING CODE 4184-01-M